DEPARTMENT OF TRANSPORTATION

Federal Aviation Administration

Public Meeting: Four Dimensional Trajectory Demonstration (4DT) Project Industry Day

AGENCY: Federal Aviation Administration (FAA), U.S. Department of Transportation (DOT).

ACTION: Notice of public meeting.

SUMMARY: The Federal Aviation Administration (FAA) is hosting an industry day to introduce the Four Dimensional Trajectory Demonstration (4DT) project to the aviation community and to provide detailed instructions on how the community may participate in project activities.

DATES: The public meeting will be held on June 24, 2015 from 8:30 a.m. to 3:00 p.m.

ADDRESSES: The public meeting will be held at the FAA's Florida NextGen Test Bed (FTB), 557 Innovation Way, Daytona Beach, FL 32114. Tel: (386) 226-6418.

FOR FURTHER INFORMATION CONTACT: Natee Wongsangpaiboon, 4DT Project Manager, Technology Development & Prototyping Division ANG-C5, Federal Aviation Administration, 800 Independence Ave. SW., Washington, DC 20591; or by telephone at (202) 267-5411; email: natee.wongsangpaiboon@faa.gov.

SUPPLEMENTARY INFORMATION: Pursuant to section 10(a) (2) of the Federal Advisory Committee Act: (Pub. L No. 92-463, 5 U.S.C. App.) notice is hereby given for an Industry Day meeting to introduce the Four Dimensional Trajectory Demonstration (4DT) project to the aviation community.

Background:

○ The 4D Trajectory Demonstration Project will conduct a demonstration of the key 4DT Trajectory Based Operations (TBO) services, including Dynamic Required Navigational Performance (DRNP), Advanced Interval Management (AIM), and Air Traffic Control (ATC) Winds. It will also demonstrate the use of Aeronautical Telecommunication Network (ATN) Baseline 2 data link for the exchange of 4D Trajectories between ground automation systems and aircraft to exercise TBO concepts.

○ The purpose of the project is to demonstrate the technical feasibility and evaluate benefits of the advanced TBO services enabled by modern data link technologies. The 4D Trajectory demonstration will leverage the availability of ATN baseline 2 data link standards, advanced Performance Based Navigation (PBN) and surveillance avionics suites, common flight object for trajectory exchange between Air Traffic Management (ATM) automation and Flight Operations Center (FOC) automation.

Registration:

○ Attendance is open to the interested public but limited to space availability and is on a first come, first serve basis. A webcast will be provided for those who cannot attend in person. To attend the Industry Day (in person or via webcast), participants must register via the following link: https://www.eventbrite.com/e/4dt-demonstration-industry-day-tickets-16997639397

Issued in Washington, DC, on May 18, 2015.
Paul V. Fontaine,
Director, Portfolio Management and Technology Development Directorate, ANG-C, NextGen Office, Federal Aviation Administration.

[FR Doc. 2015-12526 Filed 5-22-15; 8:45 am]

BILLING CODE 4910-13-P